DEPARTMENT OF ENERGY

Federal Energy Regulatory Commission

[Docket No. EG04-89-000, et al.]

B & K Energy Systems, LLC, et al.; Electric Rate and Corporate Filings

August 10, 2004.

The following filings have been made with the Commission. The filings are listed in ascending order within each docket classification.

1. B & K Energy Systems, LLC

[Docket No. EG04-89-000]

Take notice that on August 4, 2004, B & K Energy Systems, LLC (B & K) filed with the Federal Energy Regulatory Commission an application for determination of exempt wholesale generator status pursuant to part 365 of the Commission's regulations.

B & K states that it owns and operates a 1.9 MW wind energy conversion facility near Brewster, Minnesota.

B & K states that a copy of this application has been served on the Secretary of the Securities and Exchange Commission and on the Minnesota Public Utilities Commission.

Comment Date: 5 p.m. eastern time on August 25, 2004.

2. Bethpage Energy Center 3, LLC

[Docket No. EG04-90-000]

Take notice that on August 4, 2004, Bethpage Energy Center 3, LLC (Bethpage), filed with the Federal Energy Regulatory Commission an application for determination of exempt wholesale generator status pursuant to part 365 of the Commission's regulations.

Bethpage states that it will own and operate a nominal 79.9 MW power generation facility to be located in the Town of Oyster Bay, Nassau County, New York. Bethpage further states that copies of the application were served upon the United States Securities and Exchange Commission and New York Public Service Commission.

Comment Date: 5 p.m. eastern time on August 25, 2004.

3. TBG Cogen Partners

[Docket No. EG04-91-000]

Take notice that on August 4, 2004, TBG Cogen Partners (TGB), filed with the Federal Energy Regulatory Commission an application for determination of exempt wholesale generator status pursuant to part 365 of the Commission's regulations.

Applicant states that it owns and operates a nominal 57 MW power generation facility located in Bethpage, Nassau County, New York. Applicant further states that copies of the application were served upon the United States Securities and Exchange Commission and New York Public Service Commission.

Comment Date: 5 p.m. eastern time on August 25, 2004.

4. New York Independent System Operator, Inc., Central Hudson Gas & Electric Corporation, LIPA, New York Power Authority, New York State Electric & Gas Corporation, Niagara Mohawk Power Corporation, and Rochester Gas and Electric Corporation v. New York Independent System Operator, Inc., New York Independent System Operator, Inc.

[Docket Nos. EL04-110-002, EL04-113-002, EL04-115-003, and ER04-983-003]

Take notice that on August 6, 2004, the New York Independent System Operator, Inc. (NYISO) filed tariff sheets in compliance with the Commission's order issued July 22, 2004, in Docket No. EL04-110-000 et al., 108 FERC 61,075.

NYISO states that it is electronically serving a copy of this compliance filing on the official representative of each of its customers, on each participant in its stakeholder committees, and on the New York State Public Service Commission.

Comment Date: 5 p.m. eastern time on August 24, 2004.

5. ISO New England Inc.

[Docket No. ER01-316-013]

Take notice that on August 3, 2004, ISO New England Inc. (ISO) submitted for filing its Index to Customers for the second quarter of 2004 under its Tariff for Transmission Dispatch and Power Administration Services in compliance with Commission Order No. 614.

Comment Date: 5 p.m. eastern time on August 24, 2004.

6. Midwest Independent Transmission System Operator, Inc.

[Docket No. ER04-1093-000]

Take notice that on August 4, 2004, the Midwest Independent Transmission System Operator, Inc. (Midwest ISO) submitted for filing Original Service Agreement No. 1432 under Midwest ISO's FERC Electric Tariff, Second Revised Volume No. 1, a Facilities Construction Agreement between Minnesota Power and the Midwest ISO. Midwest ISO requests an effective date of July 7, 2004.

Midwest ISO states that it has served a copy of this filing on the applicable parties.

Comment Date: 5 p.m. eastern time on August 25, 2004.

7. Midwest Independent Transmission System Operator, Inc.

[Docket No. ER04-1094-000]

Take notice that on August 4, 2004, the Midwest Independent Transmission System Operator, Inc. (Midwest ISO) submitted Original Service Agreement No. 1434 under Midwest ISO's FERC Electric Tariff, Second Revised Volume No. 1, an Interconnection and Operating Agreement among Truman Municipal, Interstate Power and Light Company, a wholly-owned subsidiary of Alliant Energy Corporation, and the Midwest ISO. Midwest ISO requests an effective date of July 27, 2004.

Midwest ISO states that it has served a copy of this filing on all the applicable parties.

Comment Date: 5 p.m. eastern time on August 25, 2004.

8. PacifiCorp

[Docket No. ER04-1095-000]

Take notice that on August 4, 2004, PacifiCorp tendered for filing in a Generation Interconnection Agreement between PacifiCorp and Rock River I LLC designated as Pacific Corp's Rate Schedule FERC No. 591. PacifiCorp requests and effective date of November 8, 2001.

PacifiCorp states that copies of this filing were supplied to the Public Utility Commission of Oregon, the Washington Utilities and Transportation Commission, and Rock River I LLC.

Comment Date: 5 p.m. eastern time on August 25, 2004.

9. Tucson Electric Power Company

[Docket No. ER04-1097-000]

Take notice that on August 4, 2004, Tucson Electric Power Company (Tucson Electric) tendered for filing Service Agreement No. 234 under Tucson Electric FERC Electric Tariff Third Revised Volume No. 2, the executed Phil Young Substation Interconnection Agreement between Tucson Electric Power Company and the Morenci Water & Electric Company. Tucson Electric Power Company requests an effective date of June 15, 2004.

Comment Date: 5 p.m. eastern time on August 25, 2004.

10. Rolling Hills Generating, L.L.C.

[Docket No. ER04-1098-000]

Take notice that on August 4, 2004, Rolling Hills Generating, L.L.C. (Rolling Hills) submitted for filing Rolling Hills Rate Schedule FERC No. 2 under which it specifies its revenue requirement for providing cost-based Reactive Support and Voltage Control from Generation Sources. Rolling Hills requests an effective date of October 1, 2004.

Rolling Hills states that it has provided copies of the filing to the designated corporate officials and or representatives of American Electric Power Service Corporation and PJM Interconnection, L.L.C., and the Public Utilities Commission of Ohio.

Comment Date: 5 p.m. eastern time on August 25, 2004.

12. Bethpage Energy Center 3, LLC

[Docket No. ER04-1099-000]

Take notice that on August 4, 2004, Bethpage Energy Center 3, LLC (Applicant) tendered for filing, under section 205 of the Federal Power Act (FPA), a request for authorization to make wholesale sales of electric energy, capacity, replacement reserves, and ancillary services at market-based rates, to reassign transmission capacity, and to resell firm transmission rights. Applicant states that it will own and operate a 79.9 megawatt combined-cycle electric generation facility in the Town of Oyster Bay, New York. Applicant requests an effective date of May 1, 2005.

Comment Date: 5 p.m. eastern time on August 25, 2004.

13. TBG Cogen Partners

[Docket No. ER04-1100-000]

Take notice that on August 4, 2004, TBG Cogen Partners (Applicant) tendered for filing, under section 205 of the Federal Power Act (FPA), a request for authorization to make wholesale sales of electric energy, capacity, replacement reserves, and ancillary services at market-based rates, to reassign transmission capacity, and to resell firm transmission rights. Applicant states that it owns and operates a 57 megawatt topping-cycle electric cogeneration facility in Bethpage, Nassau County, New York. Applicant requests an effective date of September 1, 2004.

Comment Date: 5 p.m. eastern time on August 25, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “e-Filing” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1833 Filed 8-16-04; 8:45 am]

BILLING CODE 6717-01-P